DEPARTMENT OF JUSTICE

Notice of Lodging of Consent Decree Pursuant to the Comprehensive Environmental Response, Compensation and Liability Act

In accordance with Department of Justice policy codified at 28 CFR 50.7, notice is hereby given that on March 20, 2001, a proposed Consent Decree in United States v. Viktron, L.P., et al., Civ. Action No. 00-C-1632, was lodged with the United States District Court for the Northern District of Illinois. The Consent Decree represents a settlement of the United States' claims under the Clean Water Act, 33 U.S.C. 1251 et seq., for injunctive relief and civil penalties against Viktron, L.P. and its general partner Electronic Support Systems Corporation (“Settling Defendants”) for alleged violations of Sections 301 and 307 of the Act, 33 U.S.C. 1311 and 1317, the General Pretreatment Standards codified at 40 CFR 403, the Pretreatment Standards for New Sources (“PSNS”), Metal Finishing Point Source Category, codified at 40 C.F.C. 433, Subpart A, and the terms and conditions of Viktron's Industrial User Permit and an Administrative Order issued by EPA pursuant to Sections 308(a) and 309(a)(3) of Act, 33 U.S.C. 1318(a) and 1319(a)(3). The alleged violations occurred at Viktron's metal finishing facility in West Chicago, Illinois, which discharged pollutants into the West Chicago publicly owned treatment works, owned and operated by the City of West Chicago. Under the terms of the proposed ability-to-pay Consent Decree, Settling Defendants agree to pay a civil penalty of $150,000 in installments over three years, plus interest, and commit to pay up to an additional $50,000 in civil penalties depending on Viktron's sales over the next three years. Full payment of these amounts will discharge all claims alleged in the complaint. No injunctive relief is necessary because the Settling Defendants are no longer in operation and no longer own the West Chicago facility.

The Department of Justice will receive for a period of thirty (30) days from the date of this publication comments relating to the proposed Consent Decree. Comments should be addressed to the Assistant Attorney General of the Environment and Natural Resources Division, U.S. Department of Justice, P.O. Box 7611, Washington, DC 20044, and should refer to United States v. Viktron, L.P., et al. Civ. Action No. 00-C-1632; D.J. Ref. No. 90-5-1-1-06834.

The Consent Decree may be examined at the Office of the United States Attorney, 219 South Dearborn Street, Chicago, Illinois, 60604, and the United States Environmental Protection Agency, Region 5, 77 West Jackson Boulevard, Chicago, Illinois 60604-3590. A copy of the Consent Decree may also be obtained by mail from the Consent Decree Library, P.O. Box 7611, U.S. Department of Justice, Washington, DC 20044-7611. In requesting a copy of the Consent Decree, please enclose a check payable to the Consent Decree Library in amount of $3.50 (14 pages at 25 cents per page reproduction cost).

W. Benjamin Fisherow,
Deputy Chief, Environmental Enforcement Section, Environment & Natural Resources Division.

[FR Doc. 01-7766 Filed 3-28-01; 8:45 am]

BILLING CODE 4410-15-M